DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than February 14, 2000.

Interested persons are invited to submit written comments regarding the subject matter of the investigations to the Director, Office of Trade Adjustment Assistance, at the address shown below, not later than February 14, 2000.

The petitions filed in this case are available for inspection at the Office of the Director, Office of Trade Adjustment Assistance, Employment and Training Administration, U.S. Department of Labor, 200 Constitution Avenue, NW, Washington, DC 20210.

Signed at Washington, DC this 10th day of January, 2000.
Grant D. Beale,
Program Manager, Office of Trade Adjustment Assistance.

Appendix

Petitions Instituted on Jan. 10, 2000
TA-W | Subject firm (petitioners) | Location | Date of petition | Product(s)
37,224 | Foster Wheeler (Wkrs) | Playas, NM | 01/03/2000 | Copper.
37,225 | Middle Bay Oil (Co.) | Wichita, KS | 12/22/1999 | Crude Oil.
37,226 | Burgett Geothernal (Co.) | Animas, NM | 12/01/1999 | Cut Roses.
37,227 | Nobleville Casting (UAW) | Nobleville, IN | 12/29/1999 | Iron Ductile Castings.
37,228 | Third Generation, Inc (Co.) | Latta, SC | 12/22/1999 | Ladies' Apparel.
37,229 | L.G.&E. Natural Gatherin (Wkrs) | Hobbs, NM | 12/20/1999 | Natural Gas (Methane).
37,230 | Elizabethtown Sportswear (UNITE) | Elizabethtown, KY | 12/21/1999 | Men's Tailored Trousers.
37,231 | Laurel Mold (Wkrs) | Jeannette, PA | 12/15/1999 | Glass Moulds.
37,232 | Thomas Bradford Shirt (UNITE) | Huntingdon, TN | 12/23/1999 | Woven Shirts for Men, Women, Children.
37,233 | Dana Corporation (USWA) | Reading, PA | 12/14/1999 | Light Duty Pick-Up Trucks.
37,234 | Seagate (Wkrs) | Oklahoma City, OK | 12/17/1999 | Computer Hardare and Software.
37,235 | Angelica Image Apparel (Wkrs) | Ackerman, MS | 12/10/1999 | Polo Shirts.
37,236 | Chicago Pneumatic Tool (Co.) | Rock Hill, SC | 12/15/1999 | Air Powered Hand Tools.
37,237 | International Paper (Wkrs) | Natchez, MS | 12/13/1999 | Dissolving Wood Pulp (DWP).
37,238 | Harborside Graphics (Co.) | Belfast, ME | 12/10/1999 | Printed and Emboidered T-Shirts.
37,239 | Dezurik (Wkrs) | McMinnville, TN | 12/13/1999 | Frame Fabs Superstructures.
37,240 | Chevron Products Co (Wkrs) | Roosevelt, UT | 01/04/2000 | Pipeline Distsribution of Crude Oil.
37,241 | Contour Energy Co (Wkrs) | Houston, TX | 12/30/1999 | Drill Natural Gas.
37,242 | Wardson, Inc (Co.) | Adamsville, TN | 12/28/1999 | Sewing Thread for Apparel.
37,243 | Whizard Protective Wear (Wkrs) | Birmingham, OH | 12/06/1999 | Resistant Gloves.

[FR Doc. 00-2495 Filed 2-3-00; 8:45 am]

BILLING CODE 4510-30-M